DEPARTMENT OF COMMERCE

International Trade Administration

(A-580-829)

Stainless Steel Wire Rod from the Republic of Korea: Preliminary Results of Antidumping Duty Administrative Review

AGENCY: Import Administration, International Trade Administration, Department of Commerce.

SUMMARY: In response to a request by domestic interested parties,¹ the Department of Commerce (the “Department”) is conducting an administrative review of the antidumping duty order on stainless steel wire rod (“SSWR”) from the Republic of Korea (“Korea”). This review covers two producer/exporters of the subject merchandise that have been collapsed for purposes of the Department's analysis, consistent with the record of this review and prior determinations in this proceeding. The period of review (“POR”) is September 1, 2004, through August 31, 2005.

¹ The domestic interested parties are Carpenter Technology Corporation; Dunkirk Specialty Steel, LLC, a subsidiary of Universal Stainless & Alloy Products; and North American Stainless (hereinafter, the “Domestic Interested Parties”).

The Department has preliminarily determined that the companies subject to this review made U.S. sales of SSWR at prices less than normal value (“NV”). If these preliminary results are adopted in our final results of administrative review, we will instruct U.S. Customs and Border Protection (“CBP”) to assess antidumping duties on all appropriate entries. Interested parties are invited to comment on these preliminary results of review. We will issue the final results of review no later than 120 days from the date of publication of this notice.

EFFECTIVE DATE: October 11, 2006.

FOR FURTHER INFORMATION CONTACT: Karine Gziryan or Malcolm Burke, AD/CVD Operations, Office 4, Import Administration, International Trade Administration, U.S. Department of Commerce, 14th Street and Constitution Avenue, NW., Washington, DC 20230, telephone: (202) 482-4081 and (202) 482-3584, respectively.

SUPPLEMENTARY INFORMATION:

Background

On September 15, 1998, the Department published in the Federal Register the antidumping duty order on SSWR from Korea. See Notice of Amendment of Final Determination of Sales at Less Than Fair Value and Antidumping Duty Order: Stainless Steel Wire Rod From Korea, 63 FR 49331 (September 15, 1998) (“Amended Final Determination”) and Stainless Steel Wire Rod From Korea: Amendment of Final Determination of Sales at Less Than Fair Value Pursuant to Court Decision, 66 FR 41550 (August 8, 2001) (“Amended Final Determination Pursuant to Court Decision”).² In September 2005, the Department published in the Federal Register a notice of “Opportunity to Request Administrative Review” of the antidumping duty order on SSWR from Korea. See Antidumping or Countervailing Duty Order, Finding, or Suspended Investigation; Opportunity to Request Administrative Review, 70 FR 52072 ( September 1, 2005).

² In the Amended Final Determination Pursuant To Court Decision, the Department reclassified Changwon Specialty Steel Co., Ltd.'s (“Changwon”) U.S. sales as constructed export price (“CEP”) sales and recalculated the dumping margin for the collapsed entity which included Changwon. As a result of the recalculation, the “all others” rate also changed. See Amended Final Determination Pursuant To Court Decision, 66 FR at 41550.

On September 30, 2005, in accordance with 19 CFR § 351.213(b)(1), the Domestic Interested Parties requested that the Department conduct a review of Changwon and Dongbang Special Steel Co., Ltd. (“Dongbang”), and any of their affiliates (collectively, as a collapsed entity, the “Respondents” or “Changwon/Dongbang”) for the period from September 1, 2004, through August 31, 2005. See the “Collapsing of Respondents” section of this notice below.

In October 2005, the Department initiated an administrative review of the Respondents. See Initiation of Antidumping and Countervailing Duty Administrative Reviews, 70 FR 61601 (October 25, 2005). Also in October, the Department issued its antidumping questionnaire to the Respondents, and in December 2005, the Respondents responded to this questionnaire. Thereafter, the Department issued supplemental questionnaires to the Respondents - to which the Department received timely responses- and the Domestic Interested Parties submitted comments regarding the Respondents' questionnaire and supplemental questionnaire responses.

In May 2006, the Department extended the deadline for issuing the preliminary results in this administrative review until October 2, 2006. See Stainless Steel Wire Rod from the Republic of Korea: Notice of Extension of Time Limit for Preliminary Results of Antidumping Duty Administrative Review, 71 FR 30658 (May 30, 2006).

The Department is conducting this administrative review in accordance with section 751 of the Tariff Act of 1930, as amended (the “Act”).

Collapsing of Respondents

In the less-than-fair value (“LTFV”) investigation in this proceeding, the Department determined that Pohang Iron and Steel Co., Ltd. (“POSCO”), and its subsidiary, Changwon, were affiliated with Dongbang through a close supplier relationship and that all three companies should be treated as one entity (collapsed). See Notice of Final Determination of Sales at Less than Fair Value: Stainless Steel Wire Rod from Korea, 63 FR 40404, 40408 (July 29, 1998) (“Final Determination”) (Comment 2). The Department found a close supplier relationship between POSCO/Changwon and Dongbang based on the fact that Dongbang, whose operations were almost exclusively dependent upon finishing unfinished SSWR (also known as black coil), was not able to obtain suitable black coil from sources other than POSCO/Changwon. See Memorandum from the Team to Holly Kuga regarding: “Whether Pohang Iron and Steel Co., Ltd. (POSCO), and its subsidiary Changwon Specialty Steel Co., Ltd. (Changwon), are affiliated with Dongbang Special Steel Co., Ltd. (Dongbang). Whether to collapse Dongbang with the already collapsed entity POSCO/Changwon for antidumping analysis purposes,” dated July 20, 1998 (LTFV affiliation memorandum) at page 8 (which the Department has placed on the record of this administrative review). The Department collapsed these companies because their interdependent operations resulted in a significant potential for the manipulation of price and production and the nature of their facilities allowed them to shift the production of SSWR among one another. See id. Specifically, the Department found a significant potential for manipulation of price and production based on the importance of the black coil trade between the companies (Dongbang's reliance upon POSCO/Changwon for black coil as well as its position as a significant consumer of POSCO/Changwon's black coil), POSCO/Changwon's leverage over SSWR production due to the fact that it supplied a major input used in production, and the fact that the companies had facilities for producing subject merchandise.

Consistent with the record from the LTFV investigation, we find that the instant record indicates that Dongbang has not obtained suitable black coil from alternative sources but continues to exclusively rely upon POSCO/Changwon for this input. See Dongbang's December 1, 2005, questionnaire response at 14. Additionally, POSCO/Changwon and Dongbang are still able to shift the production of SSWR among one another and there continues to be a significant potential for the manipulation of price and production because these companies remain intertwined by virtue of the significant transactions between them, including sales of both SSWR and black coil for the production of SSWR. See Dongbang's December 1, 2005, questionnaire response at 3 and 14. Finally, Dongbang's business operations remain considerably dependent upon the production of subject merchandise. See Dongbang's May 12, 2006, Sales Reconciliation at Attachment 1. Given these facts, we continue to find that POSCO and Changwon are affiliated with Dongbang through a close supplier relationship and the three companies should continue to be treated as a single entity for purposes of the Department's dumping analysis. See LTFV affiliation memorandum.

Period of Review

The POR is September 1, 2004, through August 31, 2005.

Scope of the Order

For purposes of this order, the products covered are those SSWR that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling annealing, and/or pickling and/or descaling, are normally sold in coiled form, and are of solid cross-section. The majority of SSWR sold in the United States is round in cross-sectional shape, annealed and pickled, and later cold-finished into stainless steel wire or small-diameter bar. The most common size for such products is 5.5 millimeters or 0.217 inches in diameter, which represents the smallest size that normally is produced on a rolling mill and is the size that most wire-drawing machines are set up to draw. The range of SSWR sizes normally sold in the United States is between 0.20 inches and 1.312 inches in diameter.

Two stainless steel grades are excluded from the scope of the order. SF20T and K-M35FL are excluded. The chemical makeup for the excluded grades is as follows:

SF20T |
Carbon | 0.05 max
Manganese | 2.00 max
Phosphorous | 0.05 max
Sulfur | 0.15 max
Silicon | 1.00 max
Chromium | 19.00/21.00
Molybdenum | 1.50/2.50
Lead-added | (0.10/0.30)
Tellurium-added | (0.03 min)

K-M35FL |
Carbon | 0.015 max
Silicon | 0.70/1.00
Manganese | 0.40 max
Phosphorous | 0.04 max
Sulfur | 0.03 max
Nickel | 0.30 max
Chromium | 12.50/14.00
Lead | 0.10/0.30
Aluminum | 0.20/0.35

The products subject to the order are currently classifiable under subheadings 7221.00.0005, 7221.00.0015, 7221.00.0030, 7221.00.0045, and 7221.00.0075 of the Harmonized Tariff Schedule of the United States (“HTSUS”). Although the HTSUS subheadings are provided for convenience and customs purposes, the written description of the scope of the order is dispositive.

Affiliation

During this administrative review, the Respondents reported U.S. sales to trading companies which they classified as unaffiliated parties in their questionnaire responses. The Domestic Interested Parties contend that these trading companies are affiliated with the Respondents through a principal-agent relationship, while the Respondents maintain that they have no agency relationship with these customers. In reviewing the record evidence, we find that the Respondents did not have principal-agent relationships with their respective trading company customers and, therefore, we have preliminarily determined that the Respondents are not affiliated with these customers through a principal-agent relationship pursuant to section 771(33)(G) of the Act. See the proprietary memorandum to Thomas F. Futtner from Malcolm Burke, Agency Analysis of Respondents' Reseller Customers, dated concurrently with this notice.

Comparison Methodology

To determine whether the Respondents sold SSWR in the United States at prices less than NV, the Department compared the export price (“EP”) and CEP of individual U.S. sales to the weighted-average NV of sales of the foreign like product made in the ordinary course of trade in a month contemporaneous with the month in which the U.S. sale was made. See section 777A(d)(2) of the Act; see also section 773(a)(1)(B)(i) of the Act. Section 771(16) of the Act defines foreign like product as merchandise that is identical or similar to subject merchandise and produced by the same person and in the same country as the subject merchandise. Thus, we considered all products covered by the scope of the order, that were produced by the same person and in the same country as the subject merchandise, and sold by Respondents in the home market during the POR, to be foreign like products for the purpose of determining appropriate product comparisons to SSWR sold in the United States.

The Department compared U.S. sales to sales made in the home market within the contemporaneous window period, which extends from three months prior to the month in which the U.S. sale was made until two months after the month in which the U.S. sale was made. Where there were no sales of identical merchandise made in the home market in the ordinary course of trade, the Department compared U.S. sales to sales of the most similar foreign like product made in the ordinary course of trade. In making product comparisons, the Department selected identical and most similar foreign like products based on the physical characteristics reported by the Respondents in the following order of importance: grade, diameter, further processing, and coating.

Date of Sale

Respondents used invoice date as the date of sale for their EP, CEP, and home market sales. In comments filed with the Department, the Domestic Interested Parties contested the use of the invoice date as the date of sale and argued for use of the order input date or revised purchase order date. Normally, the Department considers the respondent's invoice date as recorded in its business records to be the date of sale unless a date other than the invoice date better reflects the date on which the company establishes the material terms of sale. See 19 CFR § 351.401(i). In this case, after additional inquiry, the Department determined that the use of a date other than the invoice date was not appropriate. Specifically, Changwon and Dongbang reported that the information obtained on the order input date was informal in nature, non-binding on the customer, and was obtained only to schedule production. Further, Changwon and Dongbang reported that the final price and quantity of a particular order were established when a particular shipment was invoiced, with that invoice being the first written documentation of those confirmed sales terms. Moreover, Changwon and Dongbang presented evidence that the material terms of sale were subject to change between the order date and the invoice date and, in fact, did change for numerous sales. See Dongbang's June 20, 2006, supplemental questionnaire response at 3 and Appendix SB-3, Dongbang's April 24, 2006, supplemental questionnaire response at 3 and Appendix SC-2, Changwon's April 6, 2006, supplemental questionnaire response at 5 and Appendix SA-2, and Changwon's January 23, 2006, supplemental questionnaire response at 11-13. Thus, when compared to invoice date, the record does not demonstrate that the order input date or revised purchase order date better reflects the date on which the material terms of sale were established. Therefore, consistent with prior segments of this proceeding, we have preliminarily used invoice date as the date of sale for both the U.S. and home markets. However, consistent with the Department's practice, where the invoice was issued after the date of shipment to the first unaffiliated customer, we relied upon the date of shipment as the date of sale. See e.g., Certain Cold-Rolled and Corrosion-Resistant Carbon Steel Flat Products From Korea: Final Results of Antidumping Duty Administrative Reviews, 64 FR 12927, 12935 (March 16, 1999).

Export Price and Constructed Export Price

The Department based the price of the Respondents' U.S. sales of subject merchandise on EP or CEP, as appropriate. Specifically, when Changwon or Dongbang sold subject merchandise to unaffiliated purchasers in the United States prior to importation, and CEP was not otherwise warranted based on the facts of the record, we based the price of the sale on EP, in accordance with section 772(a) of the Act. Alternatively, when Changwon sold subject merchandise to unaffiliated purchasers in the United States through a U.S. affiliate, Pohang Steel America Corporation (“POSAM”), after importation, we based the price of the sale on CEP, in accordance with section 772(b) of the Act.

In accordance with sections 772(a) and (c) of the Act, we calculated EP using the prices the Respondents charged for packed subject merchandise. From this price we deducted, where applicable, the following expenses: foreign inland freight charges (from the Respondents' plants to the port of exportation) - including wharfage charges, terminal handling charges, container taxes, document and miscellaneous fees, international freight, and marine insurance, consistent with section 772(c)(2)(A) of the Act. Additionally, we added to the starting price an amount for duty drawback pursuant to section 772(c)(1)(B) of the Act.

In accordance with sections 772(c)(2)(A) and 772(d)(1) and (3) of the Act, we calculated CEP using the prices charged for packed subject merchandise sold to the first unaffiliated purchaser in the United States, from which we deducted the following expenses: foreign inland freight (from the Respondents' plants to the port of exportation), brokerage and handling, international ocean freight, marine insurance, container handling fee, harbor fee, other U.S. transportation, U.S. duty, direct and indirect selling expenses (to the extent these expenses are associated with economic activity in the United States), and CEP profit (profit allocated to expenses deducted under sections 772(d)(1) and (d)(2) of the Act in accordance with sections 772(d)(3) and 772(f) of the Act). We computed profit by deducting from total revenue realized on sales in both the U.S. and home markets, all expenses associated with those sales. We then allocated profit to expenses incurred with respect to U.S. economic activity, based on the ratio of total U.S. expenses to total expenses for both the U.S. and home markets. Lastly, we added to the starting price an amount for duty drawback pursuant to section 772(c)(1)(B) of the Act.

Normal Value

After testing home market viability, whether home market sales to affiliates were at arm's-length prices, and whether home market sales were at below-cost prices, we calculated NV for Respondents as noted in the “Price-to-Price Comparisons” section of this notice.

A. Home Market Viability

In accordance with section 773(a)(1)(C) of the Act, in order to determine whether there was a sufficient volume of sales in the home market to serve as a viable basis for calculating NV (i.e., the aggregate volume of home market sales of the foreign like product is greater than or equal to five percent of the aggregate volume of U.S. sales), we compared the aggregate volume of the Respondents' home market sales of the foreign like product to the aggregate volume of their U.S. sales of subject merchandise. Because the aggregate volume of the Respondents' home market sales of foreign like product is more than five percent of the aggregate volume of their U.S. sales of subject merchandise, we based NV on sales of the foreign like product in the Respondents' home market.

B. Affiliated-Party Transactions and Arm's-Length Test

The Department may calculate NV based on a sale to an affiliated party only if it is satisfied that the price to the affiliated party is comparable to the prices at which sales are made to parties not affiliated with the exporter or producer, i.e., sales at arm's-length. See 19 CFR § 351.403(c). Sales to affiliated customers for consumption in the home market that are determined not to be at arm's-length are excluded from our analysis. In this proceeding the Respondents reported sales of the foreign like product to an affiliated customer. To test whether these sales were made at arm's-length prices, the Department compared the prices of sales of comparable merchandise to affiliated and unaffiliated customers, net of all movement charges, direct selling expenses, and packing. Pursuant to 19 CFR § 351.403(c), and in accordance with the Department's practice, when the prices charged to an affiliated party were, on average, between 98 and 102 percent of the prices charged to unaffiliated parties for merchandise comparable to that sold to the affiliated party, we determined that the sales to the affiliated party were at arm's-length. See Antidumping Proceedings: Affiliated Party Sales in the Ordinary Course of Trade, 67 FR 69186, 69187 (November 15, 2002). Where the Respondents' sales to affiliated home market customers did not pass the arm's length test we excluded those sales from our analysis.

C. Cost of Production (“COP”) Analysis

In the most recent administrative review in this proceeding, the Department determined that the Respondents sold foreign like product at prices below the cost of producing the product and excluded such sales from the calculation of NV. See Stainless Steel Wire Rod from Korea: Final Results of Antidumping Duty Administrative Review, 69 FR 19153 (April 12, 2004). As a result, in accordance with section 773(b)(2)(A)(ii) of the Act, the Department has determined that there are reasonable grounds to believe or suspect that during the instant POR, the Respondents sold foreign like product at prices below the cost of producing the product. Thus, the Department initiated a sales below cost inquiry with respect to the Respondents.

1. Calculation of COP

In accordance with section 773(b)(3) of the Act, for each foreign like product sold by the Respondents during the POR, we calculated a weighted-average COP based on the sum of the Respondents' materials and fabrication costs and general and administrative (“G&A”) expenses, including interest expenses. We adjusted the cost data reported by Respondents by setting Changwon's negative interest expense to zero. For further information see the Calculation Memorandum dated concurrently with this notice, on file in the Central Records Unit, Room B-099 of the Main Commerce Building (CRU).

2. Test of Home Market Sales Prices

In order to determine whether sales were made at prices below the COP, on a product-specific basis we compared the Respondents' weighted-average COP to the prices of its home market sales of foreign like product, as required under section 773(b) of the Act. In accordance with sections 773(b)(1)(A) and (B) of the Act, in determining whether to disregard home market sales made at prices less than the COP, we examined whether such sales were made: (1) in substantial quantities within an extended period of time; and (2) at prices which permitted the recovery of all costs within a reasonable period of time. We compared the COP to home market sales prices, less any applicable movement charges, direct and indirect selling, or packing expenses.

3. Results of the COP Test

Pursuant to section 773(b)(2)(C) of the Act, where less than 20 percent of the Respondents' sales of a given product were made at prices less than the COP, we did not disregard any below-cost sales of that product because the below-cost sales were not made in “substantial quantities.” Where 20 percent or more of the Respondents' sales of a given product were made at prices less than the COP during the POR, we determined such sales to have been made in “substantial quantities” for an extended period of time (i.e., one year) pursuant to sections 773(b)(2)(B) and (C) of the Act. In such cases, because we used POR average costs we also determined, in accordance with section 773(b)(2)(D) of the Act, that these sales were not made at prices which would permit recovery of all costs within a reasonable period of time. Based on the results of our cost test, we disregarded the Respondents' below-cost sales.

Price-to-Price Comparisons

Where it was appropriate to base NV on prices, we used the prices at which the foreign like product was first sold by the Respondents for consumption in the home market, in the usual commercial quantities, in the ordinary course of trade, and, to the extent possible, at the same level of trade (“LOT”) as the comparison U.S. sale.

We calculated NV using prices for packed foreign like product delivered to unaffiliated purchasers or, were appropriate, affiliated purchasers in the home market. In accordance with sections 773(a)(6)(A), (B), and (C) of the Act, where appropriate, we deducted from the starting price warranty expenses, movement expenses, home market packing costs, credit expenses and other direct selling expenses, and added U.S. packing costs and, for NVs compared to EPs, credit expenses and other direct selling expenses. Additionally, where appropriate, we made price adjustments for physical differences in the merchandise. See 773(a)(6)(C)(ii) of the Act and 19 CFR § 351.410(e).

Level of Trade

In accordance with section 773(a)(1)(B) of the Act, to the extent practicable, we determined NV based on sales in the home market at the same LOT as the EP or CEP sales. The NV LOT is based on the starting price of the sales in the home market or, when NV is based on constructed value, the starting price of the sales from which we derive selling general and administrative expenses and profit. For EP sales, the U.S. LOT is based on the starting price of the sales to the U.S. market. For CEP sales, the U.S. LOT is based on the starting price of the sales to the U.S. market, as adjusted under section 772(d) of the Act. See Micron Technology, Inc. v. United States, 243 F.3d, 1301, 1315 (Fed. Cir. 2001).

To determine whether NV sales are at a different LOT than the EP and CEP sales, the Department examines stages in the marketing process and selling functions along the chain of distribution between the producer and the customer. If the comparison-market sales are at a different LOT than the EP and CEP sales, and the difference affects price comparability, as manifested by a pattern of consistent price differences between comparison-market sales at the NV LOT and comparison-market sales at the LOT of the export transaction, the Department makes a LOT adjustment under section 773(a)(7)(A) of the Act. For CEP sales, if the NV LOT is at a more advanced stage of distribution than the CEP LOT and there is no basis for determining whether the difference between the NV and CEP LOTs affects price comparability, the Department adjusts NV under section 773(A)(7)(B) of the Act (the CEP offset provision). See Notice of Final Determination of Sales at Less Than Fair Value: Certain Carbon Steel Plate from South Africa, 62 FR 61731 (November 19, 1997).

In determining whether the Respondents made sales at separate LOTs, we obtained information from the Respondents regarding the marketing stages for the reported U.S. and home market sales, including a description of the selling activities performed by Respondents for each channel of distribution. Generally, if the reported LOTs are the same, the functions and activities of the seller at each level should be similar. Conversely, if a party reports that LOTs are different for different groups of sales, the selling functions and activities of the seller for each group should be dissimilar.

In the home market, Changwon and Dongbang each sold foreign like product during the POR directly to end users through one channel of distribution. We compared the types of selling activities performed in each channel of distribution, as well as the level of intensity at which each activity was performed and found no significant differences between the two channels (we cannot discuss the comparison here without referencing business proprietary information; therefore, for a detailed analysis, see the proprietary memorandum to Thomas F. Futtner from the Team regarding level of trade, dated concurrently herewith (“Level of Trade Memorandum”). Thus, we determined that there is one home market LOT.

In the U.S. market, Changwon sold subject merchandise during the POR to trading companies and end users through two channels of distribution, namely through unaffiliated Korean trading companies and an affiliated company located in the United States. Dongbang sold subject merchandise during the POR to trading companies and end users through only one channel of distribution, unaffiliated Korean trading companies. We compared the types of selling activities performed in each channel of distribution, as well as the level of intensity at which each activity was performed and found no significant differences between the U.S. channels. See the Level of Trade Memorandum. Thus, we determined that there is one U.S. market LOT.

We then compared the home market LOT to the U.S. market LOT. We did not find substantial differences in the selling activities performed in the two LOTs. See the Level of Trade Memorandum for further analysis. Therefore, we determined that the home and U.S. LOTs are at the same level. See 19 CFR § 351.412(c)(2) (noting that “substantial differences in selling activities are a necessary ... condition for determining that there is a difference in the stage of marketing”). Thus, neither a LOT adjustment to NV, pursuant to section 773(a)(7)(A) of the Act, nor a CEP offset pursuant to 773(a)(7)(B) of the Act, is warranted. See Antidumping Duties; Countervailing Duties; Final Rule, 62 FR 27296, 27372 (May 19, 1997) (“{t}he Department will not make a CEP offset where ... the Department bases normal value on home market sales at the same LOT as the CEP”).

Currency Conversion

Pursuant to section 773A(a) of the Act, we converted amounts expressed in foreign currencies into U.S. dollar amounts based on the exchange rates in effect on the dates of the U.S. sales, as reported by the Federal Reserve Bank.

Preliminary Results of Review

As a result of this review, we preliminarily determine that the following weighted- average dumping margin exists for the period September 1, 2004, through August 31, 2005.

Manufacturer/Exporter | Margin (percent)
POSCO/Changwon/Dongbang | 9.77 %%

Public Comment

Within 10 days of publicly announcing the preliminary results of this review, we will disclose to interested parties any calculations performed in connection with the preliminary results. See 19 CFR § 351.224(b). Any interested party may request a hearing within 30 days of the publication of this notice in the Federal Register. See 19 CFR § 351.310(c). If requested, a hearing will be held 44 days after the date of publication of this notice in the Federal Register, or the first workday thereafter. Interested parties are invited to comment on the preliminary results of this review. The Department will consider case briefs filed by interested parties within 30 days after the date of publication of this notice in the Federal Register. Also, interested parties may file rebuttal briefs, limited to issues raised in the case briefs. The Department will consider rebuttal briefs filed not later than five days after the time limit for filing case briefs. Parties who submit arguments are requested to submit with each argument: (1) A statement of the issue, (2) a brief summary of the argument and (3) a table of authorities cited. Further, we request that parties submitting written comments provide the Department with a diskette containing an electronic copy of the public version of such comments. Unless the deadline for issuing the final results of review is extended, the Department will issue the final results of this administrative review, including the results of its analysis of issues raised in the written comments, within 120 days of publication of the preliminary results in the Federal Register.

Assessment Rates

In accordance with 19 CFR § 351.212(b)(1), in these preliminary results of review we calculated importer/customer-specific assessment rates. Where the importer/customer-specific assessment rate is above de minimis (i.e., 0.50 percent ad valorem or greater), we will instruct CBP to assess the importer/customer-specific rate uniformly, as appropriate, on all entries of subject merchandise during the POR that were entered by the importer or sold to the customer. Within 15 days of publication of the final results of review, the Department will issue instructions to CBP directing it to assess the final assessment rates (if above de minimis) uniformly on all entries of subject merchandise made by the relevant importer or sold to the relevant customer during the POR.

The Department clarified its “automatic assessment” regulation on May 6, 2003 (68 FR 23954). This clarification applies to POR entries of subject merchandise produced by companies examined in this review (i.e., companies for which a dumping margin was calculated) where the companies did not know that their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective for all shipments of the subject merchandise entered, or withdrawn from warehouse, for consumption on or after the publication date of the final results of this administrative review, as provided by section 751(a)(1) of the Act: (1) the cash deposit rate for the companies examined in the instant review will be the rate established in the final results of this review (except that if the rate for a particular company is de minimis, i.e., less than 0.50 percent, no cash deposit will be required for that company); (2) for previously investigated or reviewed companies not listed above, the cash deposit rate will continue to be the company-specific rate published for the most recent period; (3) if the exporter is not a firm covered in this review, a prior review, or the LTFV investigation, but the manufacturer is, the cash deposit rate will be the rate established for the most recent period for the manufacturer of the subject merchandise; and (4) the cash deposit rate for all other manufacturers or exporters will continue to be the “all others” rate of 5.77 percent, which is the “all others” rate established in the LTFV investigation, as adjusted in a subsequent remand redetermination. See Amended Final Determination and Amended Final Determination Pursuant to Court Decision. These cash deposit rates, when imposed, shall remain in effect until publication of the final results of the next administrative review.

Notification to Importers

This notice also serves as a preliminary reminder to importers of their responsibility under 19 CFR § 351.402(f)(2) to file a certificate regarding the reimbursement of antidumping duties prior to liquidation of the relevant entries during this review period. Failure to comply with this requirement could result in the Secretary's presumption that reimbursement of antidumping occurred and the subsequent assessment of double antidumping duties.

We are issuing and publishing this notice in accordance with sections 751(a)(1) and 777(i)(1) of the Act.

Dated: October 2, 2006.
Joseph A. Spetrini,
Acting Assistant Secretary for Import Administration.

[FR Doc. E6-16820 Filed 10-10-06; 8:45 am]

BILLING CODE 3510-DS-S